DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Native American Tribal Insignia Database.

Form Number(s): None.

Agency Approval Number: 0651-0048.

Type of Request: Revision of a currently approved collection.

Burden: 3 hours annually.

Number of Respondents: 15 responses per year.

Avg. Hours per Response: The USPTO estimates that a recognized Native American tribe will require an average of 10 to 12 minutes (0.17 to 0.20 hours) to complete a request to record an official insignia, including preparing the appropriate documents and submitting the completed request.

Needs and Uses: The Trademark Law Treaty Implementation Act (Pub. L. 105-330, § 302, 112 Stat. 3071 (1998)) required the USPTO to study issues surrounding the protection of the official insignia of federally- and state-recognized Native American tribes under trademark law. At the direction of Congress, the USPTO created a database containing the official insignia of recognized Native American tribes. The insignia database serves as a reference for examining attorneys when determining the registrability of a mark that may falsely suggest a connection to the official insignia of a Native American tribe. The entry of an official insignia into the database does not confer any rights to the tribe that submitted the insignia, and entry is not the legal equivalent of registering the insignia as a trademark under 15 U.S.C. 1051 et seq. This information collection is used by the USPTO to enter an official insignia submitted by a federally- or state-recognized Native American tribe into the database. There are no forms associated with this collection.

Affected Public: Tribal governments.

Frequency: On occasion.

Respondent's Obligation: Required to obtain or retain benefits.

OMB Desk Officer: David Rostker, (202) 395-3897.

Copies of the above information collection proposal can be obtained by any of the following methods:

• E-mail: Susan.Fawcett@uspto.gov. Include “0651-0048 copy request” in the subject line of the message.

• Fax: 571-273-0112, marked to the attention of Susan Fawcett.

• Mail: Susan K. Fawcett, Records Officer, Office of the Chief Information Officer, Customer Information Services Group, Public Information Services Division, United States Patent and Trademark Office, P.O. Box 1450, Alexandria, VA 22313-1450.

Written comments and recommendations for the proposed information collection should be sent on or before February 11, 2008 to David Rostker, OMB Desk Officer, Room 10202, New Executive Office Building, 725 17th Street, NW., Washington, DC 20503.

Dated: January 4, 2008.
Susan K. Fawcett,
Records Officer, USPTO, Office of the Chief Information Officer, Customer Information Services Group, Public Information Services Division.

[FR Doc. E8-327 Filed 1-10-08; 8:45 am]

BILLING CODE 3510-16-P